DEPARTMENT OF ENERGY

Federal Energy Regulatory Commission

[Docket No. RP99-159-002)]

Southern Natural Gas Company; Notice of Compliance Filing

June 26, 2001.

Take notice that on June 19, 2001, Southern Natural Gas Company (Southern), tendered for filing as part of its FERC Gas Tariff, Seventh Revised Volume No. 1, the following tariff sheets, with an effective date of June 4, 2001:

Second Substitute Second Revised Sheet No. 45

Substitute Original Sheet No. 45A

Southern states that the purpose of the filing is to clarify the circumstances under which Southern would pay to construct delivery and receipt point facilities or offer the Shipper a contribution in aid of construction (CIAC) under Southern's Rate Schedule FT. Southern is making this filing in compliance with the Commission's June 4, 2001 Order in this proceeding.

Southern states that copies of the filing will be served upon its shippers and interested state commission.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-16507 Filed 6-29-01; 8:45 am]

BILLING CODE 6717-01-M